DEPARTMENT OF THE INTERIOR

National Park Service

[NPS-NERO-GATE-36747; PPNEGATEB0, PPMVSCS1Z.Y00000]

Notice of Cancellation and Rescheduling of the Public Meeting of the Gateway National Recreation Area Fort Hancock 21st Century Advisory Committee; Correction

AGENCY: National Park Service, Interior.

ACTION: Notice; correction.

SUMMARY: The National Park Service published in the Federal Register on October 2, 2023, a notice of public meeting of the Gateway National Recreation Area Fort Hancock 21st Century Advisory Committee scheduled for November 16, 2023. The document contained an incorrect date. The date of the meeting is November 9, 2023.

FOR FURTHER INFORMATION CONTACT: Daphne Yun, Acting Public Affairs Officer, Gateway National Recreation Area, 210 New York Avenue, Staten Island, New York 10305, by telephone (718) 815-3651, or by email daphne_yun@nps.gov.

SUPPLEMENTARY INFORMATION:

Correction

In the Federal Register of October 2, 2023, in FR Doc. 2023-21579 (88 FR 67796), on page 67796, in the third column, correct the date of the Committee meeting to read: “Thursday, November 9, 2023.”

Alma Ripps,
Chief, Office of Policy.

[FR Doc. 2023-23360 Filed 10-20-23; 8:45 am]

BILLING CODE 4312-52-P